DEPARTMENT OF ENERGY

Federal Energy Regulatory Commission

[Docket No. RP97-71-020]

Transcontinental Gas Pipe Line Corporation; Notice of Compliance Filing

April 12, 2000.

Take notice that on April 6, 2000 Transcontinental Gas Pipe Line Corporation (Transco) tendered for filing recalculated rates, supporting workpapers and pro forma tariff sheets pursuant to Ordering Paragraph (B) of the Commission's Order on Initial Decision issued on March 17, 2000 (March 17 Order) in Docket No. RP97-71-000.

Transco states that the purpose of the instant compliance filing is to submit recalculated rates and supporting workpapers to adjust the Docket No. RP97-71 rates using the return on equity of 12.40 percent and cost of debt of 8.21 percent approved in the March 17 Order. The period covered by the recalculated rates reflected in the instant filing extends from May 1, 1997 through March 31, 2000.

The March 17 Order also directs Transco to file pro forma tariff sheets reflecting on a prospective basis the elimination of the revenue credit related to a discount given to Tennessee Gas Pipeline Company and Public Service Electric and Gas Company under Transco's Rate Schedule X-15 and reflecting the approved rate of return. Accordingly, Transco submits in the instant filing pro forma tariff sheets containing revised rates that reflect, on a prospective basis, the removal of the effects of the Rate Schedule X-15 rate discount from Transco's billing determinants in its rate design volumes, as well as the rate of return approved in the March 17 Order, and supporting workpapers for such rates.

Transco states that copies of the filing are being mailed to all parties in Docket No. RP97-71-000 and interested State Commissions.

Any person desiring to protest said filing should file a protest with the Federal Energy Regulatory Commission, 888 First Street, NE, Washington, DC 20426, in accordance with § 385.211 of the Commission's rules and regulations. All such protests must be filed on or before April 19, 2000. Protests will be considered by the Commission in determining the appropriate action to be taken, but will not serve to make protestants parties to the proceedings. Copies of this filing are on file with the Commission and are available for public inspection in the Public Reference Room. This filing may be reviewed on the web at http://www.ferc.fed.us/online/rims.htm (call 202-208-2222 for assistance).

Linwood A. Watson, Jr.,
Acting Secretary.

[FR Doc. 00-9596 Filed 4-17-00; 8:45 am]

BILLING CODE 6717-01-M